DEPARTMENT OF TRANSPORTATION

Maritime Administration

Marine Transportation System National Advisory Council

ACTION: National Advisory Council public meeting.

SUMMARY: The Maritime Administration announces that the Marine Transportation System National Advisory Council (MTSNAC) will hold a meeting to review and approve an updated and revised Intermodal Report, finalize an expanded Marine Transportation System outreach and education program to addresses the economic benefits that our ports and the Marine Transportation System contribute to the nation, and discuss other issues of importance to the Marine Transportation System. A public comment period is scheduled for 11:15 a.m.-11:45 p.m. on Wednesday, September 17, 2008. To provide time for as many people to speak as possible, speaking time for each individual will be limited to three minutes. Members of the public who would like to speak are asked to contact Richard J. Lolich by September 10, 2008. Commenter's will be placed on the agenda in the order in which notifications are received. If time allows, additional comments will be permitted. Copies of oral comments must be submitted in writing at the meeting. Additional written comments are welcome and must be filed by September 27, 2008.

DATES: The meeting will be held on Wednesday, September 17, 2008, from 8:30 a.m. to 5 p.m. and Thursday, September 18, 2008, from 8:30 a.m. to 12 p.m.

ADDRESSES: The meeting will be held in the Sheraton National Hotel, 900 South Orme Street Arlington, Virginia 22204. The hotel's phone number is 703-521-1900.

FOR FURTHER INFORMATION CONTACT: Richard Lolich, (202) 366-0704; Maritime Administration, MAR-540, Room W21-309, 1200 New Jersey Ave., SE., Washington, DC 20590-0001; richard.lolich@dot.gov.

Authority: 5 U.S.C. App 2, Sec. 9(a)(2); 41 CFR 101-6. 1005; DOT Order 1120.3B)

By order of the Maritime Administration.
Dated: August 13, 2008.
Leonard Sutter,
Secretary, Maritime Administration.

[FR Doc. E8-19257 Filed 8-19-08; 8:45 am]

BILLING CODE 4910-81-P